FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 13, 2009.

A. Federal Reserve Bank of Cleveland (Nadine Wallman, Vice President) 1455 East Sixth Street, Cleveland, Ohio 44101-2566:

1. The Hillyer Family Control Group and related controlling interests, which consist of Hudson Hillyer, Hudson Hillyer Trust ( Hudson Hillyer Trustee), Marie Hillyer Trust, ( Hudson Hillyer Trustee), Carole Hillyer, Majorie Shelley, David Shelley, Blair Hillyer, Brad Hillyer, Beth Hillyer, Rebecca Hillyer, Brett Hillyer, Aaron Hillyer, Alec Hillyer, Katherine Hillyer, Jacob Hillyer, and The Clay City Pipe Company, The Bowerston Shale Company, and Fab Ohio; to acquire shares of FNB, Inc., Dennison, Ohio, and thereby acquire shares of First National Bank, Dennison, Ohio.

Board of Governors of the Federal Reserve System, June 22, 2009.
Robert deV. Frierson,
Deputy Secretary of the Board.

[FR Doc. E9-15006 Filed 6-24-09; 8:45 am]

BILLING CODE 6210-01-S